DEPARTMENT OF TRANSPORTATION

Federal Aviation Administration

14 CFR Part 71

[Docket No. FAA-2025-0946; Airspace Docket No. 25-ASO-11]

RIN 2120-AA66

Amendment of Class D and E Airspace Over Hickory and Morganton, NC

AGENCY: Federal Aviation Administration (FAA), DOT.

ACTION: Final rule.

SUMMARY: This rule amends the Class D and E surface airspaces at Hickory Regional Airport, Hickory, NC. Additionally, this rule amends Class E5 airspace extending upward from 700 feet above the surface for Hickory Regional Airport, Hickory, NC, by increasing the radius to 7.1 miles and adding an extension. Lastly, this rule amends Class E airspace extending upward from 700 feet above the surface for Foothills Regional Airport, Morganton, NC, ensuring the required protection for standard instrument approach procedures, and also updates the airport's name and geographic coordinates and removes Grace Hospital from the airspace legal description. Controlled airspace is necessary for the safety and management of instrument flight rules (IFR) operations in the area.

DATES: Effective 0901 UTC, November 27, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours a day, 365 days a year. An electronic copy of this document may also be downloaded from the Office of the Federal Register's website at www.federalregister.gov.

FAA Order JO 7400.11J, Airspace Designations and Reporting Points, as well as subsequent amendments, can be viewed online at www.faa.gov/air_traffic/publications/. For further information, you may also contact the Rules and Regulations Group, Policy Directorate, Federal Aviation Administration, 600 Independence Avenue SW, Washington, DC 20597; Telephone: (202) 267-8783.

FOR FURTHER INFORMATION CONTACT: Chris Stocking, Operations Support Group, Eastern Service Center, Federal Aviation Administration, 1701 Columbia Avenue, College Park, GA 30337; Telephone: (404) 305-5887.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it amends Class D, E2, and E5 airspace in Hickory, NC, and Class E5 at Morganton, NC.

History

The FAA published a notice of proposed rulemaking (NPRM) for Docket No. FAA 2025-0946 in the Federal Register (90 FR 21874; May 22, 2025), proposing to amend the Class D, E2, and E5 airspace at Hickory Regional Airport, Hickory, NC, and proposing to amend the Class E5 airspace at Foothills Regional Airport, Morganton, NC. Subsequently, the FAA published a supplemental notice of proposed rulemaking (SNPRM) for the same matter in the Federal Register (90 FR 24358; June 10, 2025), replacing an incorrect reference point within the Class D and Class E2 airspace descriptions and by adding a reference to the Tawba Nondirectional Radio Beacon (NDB) to the Class E5 airspace description. Interested parties were invited to participate in this rulemaking effort by submitting written comments on the proposal to the FAA. One comment was received that did not provide substantive feedback on the proposal.

Changes From NPRM and SNPRM

Subsequent to publication of both the NPRM and SNPRM, FAA discovered that an editorial change was needed to align the language used in the Hickory Class D and Class E2 airspace descriptions. Specifically, in the Hickory Class E2 description, the use of “Dates/Date” has been changed to “Days,” and “Time” has been changed to “Times”. This change ensures that the language used in Hickory Class D and Class E2 airspace descriptions remains consistent. As this constitutes a ministerial change that does not alter legal obligations associated with the airspace, the FAA has determined that good cause exists for not re-circulating the NPRM for public notice and comment.

Incorporation by Reference

Class D and E airspace designations are published in paragraphs 5000, 6002, 6004, and 6005 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This rule amends 14 CFR part 71 to modify the Class D, E2, and E5 airspace areas for Hickory Regional Airport, Hickory, NC, and amends the Class E5 airspace for Foothills Regional Airport, Morganton, NC.

This rule amends the Class D and Class E2 airspace areas at Hickory Regional Airport by increasing the radius from 4.1 miles to 4.6 miles and by establishing an extension to the surface area that is within 2 miles each side of the 235° bearing from Hickory Regional Airport, extending from the 4.6 mile radius of the airport to 5.2 miles southwest of the airport. The Class D and Class E airspace areas are overlays of each other, and each is effective during the specific days and times established in advance by a Notice to Airmen. The effective days and times will thereafter be continuously published in the Chart Supplement.

Additionally, this rule amends the Class E5 airspace at Hickory Regional Airport by extending the radius from 6.6 miles to 7.1 miles and adding an extension that is within 3 miles each side of the 055° bearing from Tawba NDB, extending from the 7.1-mile radius of the Hickory Regional Airport to 5.7 miles northeast of the NDB.

Lastly, this rule amends Class E5 airspace at Foothills Regional Airport, Morganton, NC, by amending the confines, updating the airport name and coordinates, and removing Grace Hospital from the airspace legal description to be consistent with FAA's database. The action will update the airport name from Morganton-Lenior Airport to Foothills Regional Airport and amend the Class E5 airspace extending upward from 700 feet above the surface within a 8-mile radius of the Foothills Regional Airport and within 2 miles each side of the 205° and 023° bearing from Fiddlers NDB, extending from the 8-mile radius to 4.7-miles southwest and from the 8-mile radius to 18.2-miles northeast of the NDB; excluding that airspace within the Hickory, NC, Class E airspace area.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1F,¹ “Environmental Impacts: Policies and Procedures,” paragraph 5-6.5a. This airspace action is not expected to cause any potentially significant environmental impacts, and no extraordinary circumstances exist that warrant the preparation of an environmental assessment.

¹ The FAA has updated its National Environmental Policy Act implementing procedures in FAA Order 1050.1G, which has an effective date of June 30, 2025. That Order states that it “does not apply to or alter any decisions made and final environmental documents issued prior to the effective date”. The CATEX prepared in connection with this action was prepared prior to the effective date of the new Order and therefore was prepared in accordance with the prior version of the Order.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace

* * * * *

ASO NC D Hickory, NC [Amended]

Hickory Regional Airport, NC

(Lat. 35°44′28″ N, long. 81°23′22″ W)

That airspace extending upward from the surface to and including 3700 feet MSL within a 4.6-mile radius of Hickory Regional Airport and within 2 miles each side of the 235° bearing from Hickory Regional Airport, extending from a 4.6-mile radius of the airport to 5.2 miles southwest of the airport. This Class D airspace is effective during the specific days and times established in advance by a Notice to Airmen. The effective days and times will thereafter be continuously published in the Chart Supplement.

* * * * *

Paragraph 6002 Class E Airspace Areas Designated as Surface Areas

* * * * *

ASO NC E2 Hickory, NC [Amended]

Hickory Regional Airport, NC

(Lat. 35°44′28″ N, long. 81°23′22″ W)

That airspace within a 4.6-mile radius of Hickory Regional Airport and within 2 miles on each side of the 235° bearing from Hickory Regional Airport, extending from a 4.6-mile radius of the airport to 5.2 miles southwest of the airport. This Class E airspace area is effective during the specific days and times established in advance by a Notice to Airmen. The effective days and times will thereafter be continuously published in the Chart Supplement.

* * * * *

Paragraph 6005 Class E Airspace Areas Extending Upward From 700 Feet or More Above the Surface of the Earth

* * * * *

ASO NC E5 Hickory, NC [Amended]

Hickory Regional Airport, NC

(Lat. 35°44′28″ N, long. 81°23′22″ W)

Tawba NDB

(Lat. 35°47′11″ N, long. 81°18′19″ W)

That airspace extending upward from 700 feet above the surface within a 7.1-mile radius of Hickory Regional Airport, and within 3-miles each side of the 055° bearing from Tawba NDB, extending from the 7.1-mile radius of the Hickory Regional Airport to 5.7 miles northeast of the NDB.

* * * * *

ASO NC E5 Morganton, NC [Amended]

Foothills Regional Airport, NC

(Lat. 35°49′13″ N, long. 81°36′41″ W)

Fiddlers NDB

(Lat. 35°42′37″ N, long. 81°40′17″ W)

That airspace extending upward from 700 feet above the surface within a 8-mile radius of the Foothills Regional Airport and within 2 miles each side of the 205° and 023° bearing from Fiddlers NDB, extending from the 8-mile radius to 4.7-miles southwest and from the 8-mile radius to 18.2-miles northeast of the NDB.

* * * * *

Issued in College Park, Georgia, on July 30, 2025.
Patrick Young,
Manager, Airspace & Procedures Team North, Eastern Service Center, Air Traffic Organization.

[FR Doc. 2025-14579 Filed 7-31-25; 8:45 am]

BILLING CODE 4910-13-P